ENVIRONMENTAL PROTECTION AGENCY

[FRL-9102-9]

Clean Air Act Operating Permit Program; Petition for Objection to Federal Operating Permit for American Electric Power Service Corporation, Southwest Electric Power Company

AGENCY: Environmental Protection Agency (EPA).

ACTION: Notice of final action.

SUMMARY: This document announces that the EPA Administrator has responded to a citizen petition asking EPA to object to the American Electric Power Service Corporation, Southwest Electric Power Company (AEP) operating permit issued by the Arkansas Department of Environmental Quality. Specifically, the Administrator has partially granted and partially denied the petition submitted by Environmental Integrity Project, Sierra Club and Audubon (Petitioners), to object to the title V operating permit for AEP to operate the John W. Turk, Jr. power plant in Fulton, Hempstead County, Arkansas (Turk plant).

Pursuant to section 505(b)(2) of the Clean Air Act (Act), the petitioner may seek judicial review of those portions of the petition which EPA denied in the United States Court of Appeals for the appropriate circuit. Any petition for review shall be filed within 60 days from the date this notice appears in the Federal Register, pursuant to section 307 of the Act.

ADDRESSES: You may review copies of the final order, the petition, and other supporting information at EPA Region 6, 1445 Ross Avenue, Dallas, Texas 75202-2733. EPA requests that if at all possible, you contact the individual listed in the FOR FURTHER INFORMATION CONTACT section to view copies of the final order, petition, and other supporting information. If you wish to examine these documents, you should make an appointment at least 24 hours before visiting day. The final order is also available electronically at: http://www.epa.gov/region07/programs/artd/air/title5/petitiondb/petitions/aep_turk_response2008.pdf.

FOR FURTHER INFORMATION CONTACT: Richard Barrett, Air Permits Section, Multimedia Planning and Permitting Division, EPA Region 6, 1445 Ross Avenue, Dallas, Texas 75202-2733, telephone (214) 665-7227, or e-mail at barrett.richard@epa.gov.

SUPPLEMENTARY INFORMATION: The Act affords EPA a 45-day period to review, and, as appropriate, object to operating permits proposed by State permitting authorities under title V of the Act. Section 505(b)(2) of the Act authorizes any person to petition the EPA Administrator within 60 days after the expiration of this review period to object to title V operating permits if EPA has not done so. Petitions must be based only on objections to the permit that were raised with reasonable specificity during the public comment period provided by the State, unless the petitioner demonstrates that it was impracticable to raise these issues during the comment period or the grounds for the issues arose after this period.

On November 24, 2008, EPA received a petition from the Petitioners requesting that EPA object to the issuance of the title V operating permit to AEP for the operation of the Turk plant. Specifically, the Petitioners claimed that: (1) The best available control technology (BACT) analysis for the Turk plant's prevention of significant deterioration (PSD) permit was flawed; (2) the maximum available control technology (MACT) analysis was flawed; (3) the permit failed to assure compliance with, and practical enforceability of, the emission limits and standards required for PSD permits and title V of the Act; and (4) EPA should object to the permit because it failed to regulate carbon dioxide (CO2) and greenhouse gas (GHG) emissions from the Turk plant.

On December 15, 2009, the Administrator issued an order partially granting and partially denying the petition. The order explains the reasons behind EPA's conclusion to partially grant and partially deny the petition for objection.

Dated: January 6, 2010.
Lawrence E. Starfield,
Deputy Regional Administrator, Region 6.

[FR Doc. 2010-621 Filed 1-13-10; 8:45 am]

BILLING CODE P